DEPARTMENT OF THE INTERIOR

National Park Service

[NPS-WASO-NAGPRA-NPS0035449; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects and has determined that there is a cultural affiliation between the human remains and associated funerary objects and Indian Tribes or Native Hawaiian organizations in this notice. The human remains and associated funerary objects were removed from Hardin, Lincoln, Madison, Obion, Perry, Tipton, and Williamson Counties, TN.

DATES: Repatriation of the human remains and associated funerary objects in this notice may occur on or after April 10, 2023.

ADDRESSES: Phillip R. Hodge, Tennessee Department of Environment and Conservation, Division of Archaeology, 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of the TDEC-DOA. The National Park Service is not responsible for the determinations in this notice. Additional information on the determinations in this notice, including the results of consultation, can be found in the inventory or related records held by the TDEC-DOA.

Description

In 1969, human remains representing, at minimum, one individual were removed from site 40HR35 in Hardin County, TN, by archeologists associated with then Memphis State University (now the University of Memphis). In 1995, the human remains of this individual were accessioned into the TDEC-DOA's repository and transferred into its possession. No additional information is available regarding the curation history at the University of Memphis nor the subsequent transfer to the TDEC-DOA. No known individual was identified. No associated funerary objects are present.

In 1975, human remains representing, at minimum, 24 individuals were removed from site 40LN16 in Lincoln County, TN, by archeologists with the TDEC-DOA prior to construction of the Lincoln County High School. The TDEC-DOA's 1975 excavations at this site were conducted under the permission of the landowner, the Lincoln County Board of Education. No known individuals were identified. The five associated funerary objects are one lot of shale fragments, one lot of fragments of a limestone-tempered ceramic vessel, one rectangular stone, one galena cube, and one lot of mica fragments.

In 1963, 1981, and 1983, human remains representing, at minimum, 24 individuals were removed from site 40MD1 in Madison County, TN, by archeologists with the TDEC-DOA. No known individuals were identified. The 1,524 associated funerary objects are 986 freshwater pearl beads, 529 marine columella beads, two bone rattles containing quartzite pebbles, two lithic fragments, one bone awl, one bone pin, one green schist pendant, one sheet of mica, and one green schist “boatstone” vessel.

In 1985, human remains representing, at minimum, 95 individuals were removed from site 40OB6 in Obion County, TN, by archeologists with Arrow Enterprises of Bowling Green, KY, under contract to the U.S. Soil Conservation Service. The human remains were accessioned into TDEC-DOA's repository the same year. No known individuals were identified. The 56 associated funerary objects are 25 marine shell beads, 11 pieces of lithic debitage, shatter, and fire-cracked rock, nine ceramic vessels, four ceramic sherds, one projectile point/knife, one piece of marine shell whelk, two lithic flakes, one stone effigy pipe, one carbon sample, and one stone discoidal.

Human remains representing, at minimum, 35 individuals were removed from Perry County, TN. Human remains belonging to 15 of these individuals were recovered from 40PY207 in secondary contexts along the Tennessee River by park rangers with Tennessee State Parks. These human remains were transferred to TDEC-DOA in 1991 and 1997. Human remains belonging to 17 of these individuals were excavated by Memphis State University between 1972 and 1976. No documentation is available to explain why these human remains were accessioned into TDEC-DOA's repository. No information exists regarding the provenance of the human remains belonging to three of these individuals or the circumstances under which they were accessioned into TDEC-DOA's repository. No known individuals were identified. The 24 associated funerary objects include 21 unidentified faunal long bones, two turkey tarsometatarsi, and one projectile point/knife.

Human remains representing, at minimum, one individual was removed from Tipton County, TN. The human remains had eroded from the bank of the Hatchie River at site 40TP1. They were found by rangers with the Hatchie National Wildlife Refuge on January 1, 1979, and were transferred the TDEC-DOA the same day. No known individual was identified. No associated funerary objects are present.

In 1979, human remains representing, at minimum, six individuals were removed from site 40WM33 in Williamson County, TN. These remains were excavated by volunteer avocational archeologists working under the auspices of the TDEC-DOA prior to road construction. The TDEC-DOA accessioned the human remains and an associated funerary object on December 11, 1979. No known individuals were identified. The one associated funerary object is a partially reconstructed ceramic jar.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the TDEC-DOA has determined that:

• The human remains described in this notice represent the physical remains of 186 individuals of Native American ancestry.

• The 1,610 objects described in this notice are reasonably believed to have been placed with or near individual human remains at the time of death or later as part of the death rite or ceremony.

• There is a relationship of shared group identity that can be reasonably traced between the human remains and associated funerary objects described in this notice and the Cherokee Nation; Eastern Band of Cherokee Indians; The Chickasaw Nation; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 10, 2023. If competing requests for repatriation are received, the TDEC-DOA must determine the most appropriate requestor prior to repatriation. Requests for joint repatriation of the human remains and associated funerary objects are considered a single request and not competing requests. The TDEC-DOA is responsible for sending a copy of this notice to the Indian Tribes identified in this notice.

Authority: Native American Graves Protection and Repatriation Act, 25 U.S.C. 3003, and the implementing regulations, 43 CFR 10.9, 10.10, and 10.14.

Dated: March 1, 2023.
Melanie O'Brien,
Manager, National NAGPRA Program.

[FR Doc. 2023-04899 Filed 3-9-23; 8:45 am]

BILLING CODE 4312-52-P